DEPARTMENT OF ENERGY

Federal Energy Regulatory Commission

Combined Notice of Filings

Take notice that the Commission has received the following Natural Gas Pipeline Rate and Refund Report filings:

Filings Instituting Proceedings

Docket Numbers: RP17-820-001.

Applicants: Northern Natural Gas Company.

Description: Compliance filing 20171012 Compliance Filing to be effective 11/1/2017.

Filed Date: 10/12/17.

Accession Number: 20171012-5089.

Comments Due: 5 p.m. ET 10/24/17.

Docket Numbers: RP18-30-000.

Applicants: Equitrans, L.P.

Description: § 4(d) Rate Filing: Negotiated Rate Service Agreement—Mercuria Energy to be effective 10/14/2017.

Filed Date: 10/12/17.

Accession Number: 20171012-5102.

Comments Due: 5 p.m. ET 10/24/17.

Docket Numbers: RP18-31-000.

Applicants: Equitrans, L.P.

Description: § 4(d) Rate Filing: Negotiated Rate Service Agreements—BP and EQT Energy to be effective 10/13/2017.

Filed Date: 10/12/17.

Accession Number: 20171012-5133.

Comments Due: 5 p.m. ET 10/24/17.

Docket Numbers: RP18-32-000.

Applicants: El Paso Natural Gas Company, L.L.C.

Description: § 4(d) Rate Filing: Non-Conforming Agreement Filing (SWG 2017) to be effective 11/1/2017.

Filed Date: 10/13/17.

Accession Number: 20171013-5000.

Comments Due: 5 p.m. ET 10/25/17.

Docket Numbers: RP18-33-000.

Applicants: Natural Gas Pipeline Company of America.

Description: § 4(d) Rate Filing: Occidental Energy Negotiated Rate Filing RP18- to be effective 11/1/2017.

Filed Date: 10/13/17.

Accession Number: 20171013-5034.

Comments Due: 5 p.m. ET 10/25/17.

Docket Numbers: RP18-34-000.

Applicants: Algonquin Gas Transmission, LLC.

Description: § 4(d) Rate Filing: Negotiated Rate—KeySpan to Con Ed 794826 to be effective 11/1/2017.

Filed Date: 10/13/17.

Accession Number: 20171013-5042.

Comments Due: 5 p.m. ET 10/25/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 16, 2017.
Nathaniel J. Davis, Sr.,
Deputy Secretary.

[FR Doc. 2017-22836 Filed 10-19-17; 8:45 am]

BILLING CODE 6717-01-P